DEPARTMENT OF ENERGY

Federal Energy Regulatory Commission

[Docket No. EG00-103-000, et al.]

Madison Windpower, LLC, et al.; Electric Rate and Corporate Regulation Filings

March 3, 2000.

Take notice that the following filings have been made with the Commission:

1. Madison Windpower, LLC

[Docket No. EG00-103-000]

Take notice that on February 29, 2000, Madison Windpower, LLC (Madison), a limited liability company with its principal place of business at 7500 Old Georgetown Road, Bethesda, MD 20814, filed with the Federal Energy Regulatory Commission an application for determination of exempt wholesale generator status pursuant to Part 365 of the Commission's regulations.

Madison proposes to construct, own or lease and operate a nominally rated 11.55 MW wind-power generating facility in the Town of Madison, Madison County, New York. The proposed power plant is expected to commence commercial operation in the 3rd quarter of 2000. All output from the plant will be sold by Madison exclusively at wholesale.

Comment date: March 24, 2000, in accordance with Standard Paragraph E at the end of this notice. The Commission will limit its consideration of comments to those that concern the adequacy or accuracy of the application.

2. Reliant Energy Shelby County, LP

[Docket No. EG00-104-000]

Take notice that on February 28, 2000, Reliant Energy Shelby County, LP, (Reliant Shelby County) tendered for filing an application for a determination of exempt wholesale generator status, pursuant to Section 32 (a)(1) of the Public Utility Holding Company Act of 1935, as amended, (PUHCA), 15 U.S.C. 79z-5a (1994), and Subchapter T, Part 365 of the regulations of the Federal Energy Regulatory Commission (Commission), 18 CFR part 365.

Reliant Shelby County is a Delaware limited partnership and proposes to construct, own and operate a generation facility in Shelby County, Illinois.

Comment date: March 24, 2000, in accordance with Standard Paragraph E at the end of this notice. The Commission will limit its consideration of comments to those that concern the adequacy or accuracy of the application.

3. The Montana Power Trading and Marketing Company and The Montana Power Company

[Docket No. ER97-399-014 and ER97-449-003]

Take notice that on February 29, 2000, The Montana Power Company and Montana Power Trading and Marketing tendered for filing an updated market analysis and change of status report in connection with their market-based rate authority.

Comment date: March 21, 2000, in accordance with Standard Paragraph E at the end of this notice.

4. Engage Energy US, L.P.

[Docket No. ER97-654-014]

Take notice that on February 28, 2000, Engage Energy US, L.P. (Engage), tendered for filing a three-year update to its market power study in compliance with the Commission's Order in Docket No. ER97-654-000, granting Newco US, L.P., whose name subsequently was changed to Engage, market rate authority.

Comment date: March 21, 2000, in accordance with Standard Paragraph E at the end of this notice.

5. California Power Exchange Corporation

[Docket No. ER00-951-001]

Take notice that on February 29, 2000, the California Power Exchange Corporation, on behalf of its CalPX Trading Services Division (CTS), on February 29, 2000, made a filing to comply with the Commission's February 24, 2000 order in this proceeding.

Copies of the filing were served upon the CTS” jurisdictional customers and the California Public Utilities Commission.

Comment date: March 21, 2000, in accordance with Standard Paragraph E at the end of this notice.

6. Allegheny Energy Service Corporation on behalf of West Penn Power Company

[Docket No. ER00-1127-000

Take notice that on February 28, 2000, Allegheny Energy Service Corporation, on behalf of West Penn Power Company (WP), tendered for filing a Power Service Agreement and an Addendum thereto dated February 24, 2000, under which WP will provide full requirements service to the Letterkenny Industrial Development Authority in Franklin County, Pennsylvania.

The parties request a May 3, 1999, effective date. The filing is an amendment of the filing made under cover letter dated January 14, 2000.

Copies of the filing have been provided to the Pennsylvania Public Utility Commission and all parties of record.

Comment date: March 21, 2000, in accordance with Standard Paragraph E at the end of this notice.

7. Reliant Energy Services, Inc.

[Docket No. ER00-1526-000]

Take notice that on February 28, 2000, Reliant Energy Services, Inc. (RES), tendered for filing at the direction of Commission Staff and pursuant to Section 205 of the Federal Power Act, 16 U.S.C. 824d (1994), and Part 35 of the Commission's Regulations, 18 CFR 35, an amendment to its February 4, 2000, Petition in the above-captioned docket.

RES requests waiver of the prior notice requirements of Section 35.3 of the Commission's Regulations, 18 CFR 35.3, to permit its amended filing to become effective as of February 4, 2000, the date of its initial filing in this docket.

Comment date: March 21, 2000, in accordance with Standard Paragraph E at the end of this notice.

8. New Century Services, Inc.

[Docket No. ER00-1707-000]

Take notice that on February 28, 2000, New Century Services, Inc., on behalf of Cheyenne Light, Fuel and Power Company, Public Service Company of Colorado, and Southwestern Public Service Company (collectively Companies), tendered for filing a Service Agreement under their Joint Open Access Transmission Service Tariff for Non-Firm Point-to-Point Transmission Service between the Companies and American Electric Power Service Corporation.

Comment date: March 21, 2000, in accordance with Standard Paragraph E at the end of this notice.

9. New Century Services, Inc.

[Docket No. ER00-1708-000]

Take notice that on February 28, 2000, New Century Services, Inc., on behalf of Cheyenne Light, Fuel and Power Company, Public Service Company of Colorado, and Southwestern Public Service Company (collectively Companies), tendered for filing a Service Agreement under their Joint Open Access Transmission Service Tariff for Firm Point-to-Point Transmission Service between the Companies and American Electric Power Service Corporation.

Comment date: March 21, 2000, in accordance with Standard Paragraph E at the end of this notice.

10. FirstEnergy System

[Docket No. ER00-1706-000]

Take notice that on February 28, 1999, FirstEnergy System tendered for filing a Service Agreement to provide Non-Firm Point-to-Point Transmission Service for Borough of Zelienople, the Transmission Customer. Services are being provided under the FirstEnergy System Open Access Transmission Tariff submitted for filing by the Federal Energy Regulatory Commission in Docket No. ER97-412-000.

The proposed effective date under this Service Agreement is March 1, 2000, for the above mentioned Service Agreement in this filing.

Comment date: March 21, 2000, in accordance with Standard Paragraph E at the end of this notice.

11. PECO Energy Company

[Docket No. ER00-1705-000]

Take notice that on February 28, 2000, PECO Energy Company (PECO), tendered for filing an Interconnection Agreement between PECO and Bio-Energy Partners for Generation Interconnection and Parallel Operation.

Copies of this filing were served on Bio-Energy Partners and the Pennsylvania Public Utility Commission.

Comment date: March 21, 2000, in accordance with Standard Paragraph E at the end of this notice.

12. Sierra Pacific Power Company

[Docket No. ER00-1709-000]

Take notice that on February 28, 2000, Sierra Pacific Power Company (Sierra), tendered for filing Service Agreements (Service Agreements) with the following entities for Point-to-Point Transmission Service under Sierra Pacific Resources Operating Companies FERC Electric Tariff Original Volume No. 1, Open Access Transmission Tariff (Tariff), for Non-Firm Point-to-Point Transmission Service to Sierra Pacific Energy Company, American Electric Power Company, Inc., and PP&L Montana, LLC., and also Short-Term Firm Point-to-Point Transmission Service to Sierra Pacific Energy Company, American Electric Power Company, Inc., PP&L Montana, LLC.

Sierra filed the executed Service Agreements with the Commission in compliance with Sections 13.4 and 14.4 of the Tariff and applicable Commission Regulations.

Sierra also submitted revised Sheet No. 173 (Attachment E) to the Tariff, which is an updated list of all current subscribers.

Sierra requests waiver of the Commission's notice requirements to permit and effective date of March 1, 2000, for Attachment E, and to allow the Service Agreements to become effective according to their terms.

Copies of this filing were served upon the Public Utilities Commission of Nevada, the Public Utilities Commission of California and all interested parties.

Comment date: March 21, 2000, in accordance with Standard Paragraph E at the end of this notice.

13. FirstEnergy System

[Docket No. ER00-1710-000]

Take notice that on February 28, 2000, FirstEnergy System tendered for filing Service Agreements to provide Firm Point-to-Point Transmission Service for Borough of Zelienople, the Transmission Customer. Services are being provided under the FirstEnergy System Open Access Transmission Tariff.

The proposed effective date under this Service Agreement is March 1, 2000, for the above mentioned Service Agreement in this filing.

Comment date: March 20, 2000, in accordance with Standard Paragraph E at the end of this notice.

14. Public Service Company of New Mexico

[Docket No. ER00-1711-000]

Take notice that on February 28, 2000, Public Service Company of New Mexico (PNM), tendered for filing an executed service agreement, dated February 4, 2000, for firm point-to-point transmission service and ancillary services, between PNM Transmission Development and Contracts (Transmission Provider) and PNM International Business Development (Transmission Customer), under the terms of PNM's Open Access Transmission Service Tariff. This service agreement supersedes an existing service agreement between the Transmission Provider and the Transmission Customer which expired by its own terms on December 31, 1999.

Under the Service Agreement, Transmission Provider continues to provide to Transmission Customer reserved capacity from PNM's San Juan Generating Station 345 kV Switchyard (point of receipt) to PNM's Luna 345kV Switching Station (point of Delivery) for the period beginning January 1, 2000 and ending December 31, 2001.

Comment date: March 21, 2000, in accordance with Standard Paragraph E at the end of this notice.

15. Alliant Energy Corporate Services, Inc.

[Docket No. ER00-1715-000]

Take notice that on February 28, 2000, Alliant Energy Corporate Services, Inc., tendered for filing an executed Service Agreement for short-term firm point-to-point transmission service, establishing Great River Energy as a point-to-point Transmission Customer under the terms of the Alliant Energy Corporate Services, Inc., transmission tariff.

Alliant Energy Corporate Services, Inc. requests an effective date of February 4, 1999, and accordingly, seeks waiver of the Commission's notice requirements.

A copy of this filing has been served upon the Illinois Commerce Commission, the Minnesota Public Utilities Commission, the Iowa Department of Commerce, and the Public Service Commission of Wisconsin.

Comment date: March 21, 2000, in accordance with Standard Paragraph E at the end of this notice.

16. Midwest Energy, Inc.

[Docket No. ER00-1719-000]

Take notice that on February 28, 2000, Midwest Energy, Inc. filed a quarterly report for the fourth quarter of 1999.

Comment date: March 23, 2000, in accordance with Standard Paragraph E at the end of this notice.

17. New England Power Pool Participants Pool

[Docket No. ER00-1723-000]

Take notice that on February 29, 2000, the New England Power Pool Participants Committee submitted changes to Appendix 11-D of Market Rule 11, with a requested effective date of May 1, 2000.

The NEPOOL Participants Committee states that copies of these materials were sent to the New England state governors and regulatory commissions and the Participants in the New England Power Pool.

Comment date: March 21, 2000, in accordance with Standard Paragraph E at the end of this notice.

18. Virginia Electric and Power Company

[Docket No. ER00-1721-000]

Take notice that on February 29, 2000, Virginia Electric and Power Company (Virginia Power), tendered for filing proposed modifications to its Open Access Transmission Tariff.

The purpose of these proposed modifications is to accommodate Virginia Power's Retail Access Pilot Program. Virginia Power requests an effective date of May 1, 2000.

Copies of the filing were served upon the public utility's jurisdictional customers, and the U.S. Department of Energy, Virginia State Corporation Commission, Public Service Commission of D.C., South Carolina Public Service Commission, Tennessee Public Service Commission, Texas Public Utility Commission, New Jersey Board of Public Utilities, Illinois Commerce Commission, Indiana Utility Regulatory Commission, Kentucky Public Service Commission, Maine Public Utilities Commission, Maryland Public Service Commission, Missouri Public Service Commission, Alabama Public Service Commission, Arkansas Public Service Commission, Delaware Public Service Commission, New York Public Service Commission, Pennsylvania Public Utility Commission, and the Vermont Public Service Board.

Comment date: March 21, 2000, in accordance with Standard Paragraph E at the end of this notice.

19. Allegheny Energy Service Corporation on behalf of Allegheny Energy Supply Company, LLC

[Docket No. ER00-1722-000]

Take notice that on February 29, 2000, Allegheny Energy Service Corporation on behalf of Allegheny Energy Supply Company, LLC (Allegheny Energy Supply), tendered for filing Amendment No. 1 to Supplement No. 9 to the Market Rate Tariff to incorporate a Netting Agreement with Virginia Electric and Power Company into the tariff provisions.

Allegheny Energy Supply Company requests a waiver of notice requirements to make the Amendment effective as of February 28, 2000.

Copies of the filing have been provided to the Public Utilities Commission of Ohio, the Pennsylvania Public Utility Commission, the Maryland Public Service Commission, the Virginia State Corporation Commission, the West Virginia Public Service Commission, and all parties of record.

Comment date: March 21, 2000, in accordance with Standard Paragraph E at the end of this notice.

20. New England Power Pool

[Docket No. ER00-1724-000]

Take notice that on February 29, 2000, the New England Power Pool (NEPOOL) Participants Committee tendered for filing three (3) Service Agreements for Through or Out Service or In Service pursuant to Section 205 of the Federal Power Act and 18 CFR 35.12 of the Commission's Regulations.

Acceptance of these Service Agreements will recognize the provision of Firm In Service transmission to Northeast Utilities Service Company, in conjunction with Regional Network Service, in accordance with the provisions of the NEPOOL Open Access Transmission Tariff filed with the Commission on December 31, 1996, as amended and supplemented. In each case, an effective date of March 1, 2000 for commencement of transmission service has been requested.

Copies of this filing were sent to all NEPOOL Participants, the New England public utility commissioners and all parties to the transaction.

Comment date: March 21, 2000, in accordance with Standard Paragraph E at the end of this notice.

21. New England Power Pool

[Docket No. ER00-1725-000]

Take notice that on February 29, 2000, the New England Power Pool (NEPOOL) Participants Committee filed for acceptance a signature page to the New England Power Pool Agreement dated September 1, 1971, as amended, signed by The Energy Consortium (TEC). The NEPOOL Agreement has been designated NEPOOL FPC No. 2.

The Participants Committee states that the Commission's acceptance of TEC's signature page would permit NEPOOL to expand its membership to include TEC. The Participants Committee further states that the filed signature page does not change the NEPOOL Agreement in any manner, other than to make TEC a member in NEPOOL.

The Participants Committee requests an effective date of March 1, 2000, for commencement of participation in NEPOOL by TEC.

Comment date: March 21, 2000, in accordance with Standard Paragraph E at the end of this notice.

22. New England Power Pool Participants Committee

[Docket No. ER00-1726-000]

Take notice that on February 29, 2000, the New England Power Pool (NEPOOL) Participants Committee tendered for filing for acceptance a signature page to the New England Power Pool Agreement dated September 1, 1971, as amended, signed by Rumford Power Associates Limited Partnership (Rumford). The NEPOOL Agreement has been designated NEPOOL FPC No. 2.

The Participants Committee states that the Commission's acceptance of Rumford's signature page would permit NEPOOL to expand its membership to include Rumford. The Participants Committee further states that the filed signature page does not change the NEPOOL Agreement in any manner, other than to make Rumford a member in NEPOOL.

The Participants Committee requests an effective date of March 1, 2000, for commencement of participation in NEPOOL by Rumford.

Comment date: March 21, 2000, in accordance with Standard Paragraph E at the end of this notice.

23. American Electric Power Service Corporation

[Docket No. ER00-1727-000]

Take notice that on February 29, 2000, the American Electric Power Service Corporation (AEPSC), tendered for filing an amendment to the subject docket to include the Specifications for Long-Term Firm Point-to-Point Transmission Service Reservations to be attached as addenda to the previously filed Firm Point-to-Point Transmission Service Agreements with American Municipal Power—Ohio, Inc., Cleveland Public Power, Commonwealth Edison Company, and PECO Energy Power Team. All of these agreements are pursuant to the AEP Companies' Open Access Transmission Service Tariff (OATT). The OATT has been designated as FERC Electric Tariff Original Volume No. 4, effective July 9, 1996.

AEPSC requests waiver of notice to permit the Service Agreements to be made effective for service billed on and after January 1, 2000.

A copy of the filing was served upon the Parties and the state utility regulatory commissions of Indiana, Kentucky, Michigan, Ohio, Tennessee, Virginia and West Virginia.

Comment date: March 21, 2000, in accordance with Standard Paragraph E at the end of this notice.

24. Arizona Public Service Company

[Docket No. ER00-1728-000]

Take notice that on February 29, 2000, Arizona Public Service Company (APS), tendered for filing umbrella Service Agreements to provide Short-Term Firm and Non-Firm Point-to-Point Transmission Service to Coral Power, L.L.C., PP&L Montana, L.L.C., and Tri-State Generation and Transmission Association, Inc., under APS’ Open Access Transmission Tariff.

A copy of this filing has been served on Coral Power, L.L.C., PP&L Montana, L.L.C., and Tri-State Generation and Transmission Association, Inc., and the Arizona Corporation Commission.

Comment date: March 21, 2000, in accordance with Standard Paragraph E at the end of this notice.

25. Allegheny Energy Service Corporation, on behalf of Allegheny Energy Supply Company, LLC

[Docket No. ER00-1729-000]

Take notice that on February 29, 2000, Allegheny Energy Service Corporation on behalf of Allegheny Energy Supply Company, LLC (Allegheny Energy Supply), tendered for filing Supplement No. 26 to add one (1) new Customer to the Market Rate Tariff under which Allegheny Energy Supply Company offers generation services; and also files Amendment No. 1 to Supplement No. 26 to incorporate a Netting Agreement with Western Resources, Inc., into the tariff provisions.

Allegheny Energy Supply requests a waiver of notice requirements to make service available to Western Resources, Inc., and make the Netting Agreement effective as of February 28, 2000.

Copies of the filing have been provided to the Public Utilities Commission of Ohio, the Pennsylvania Public Utility Commission, the Maryland Public Service Commission, the Virginia State Corporation Commission, the West Virginia Public Service Commission, and all parties of record.

Comment date: March 21, 2000, in accordance with Standard Paragraph E at the end of this notice.

26. Dayton Power and Light Company

[Docket No. ER00-1730-000]

Take notice that on February 29, 2000, Dayton Power and Light Company (Dayton), tendered for filing service agreements establishing Statoil Energy Services, Inc., as a customer under the terms of Dayton's Market-Based Sales Tariff.

Dayton requests an effective date of one day subsequent to this filing for the service agreements. Accordingly, Dayton requests waiver of the Commission's notice requirements.

Copies of this filing were served upon Statoil Energy Services, Inc. and the Public Utilities Commission of Ohio.

Comment date: March 21, 2000, in accordance with Standard Paragraph E at the end of this notice.

27. Southwestern Electric Power Company

[Docket No. ER00-1731-000]

Take notice that on February 29, 2000, Southwestern Electric Power Company (SWEPCO), tendered for filing as Assignment and Consent Agreement reflecting SWEPCO's consent to the assignment of certain rights and obligations under SWEPCO's contract with Cajun Electric Cooperative, Inc. (Cajun Electric). Specifically, the Assignment and Consent Agreement reflects Louisiana Generating LLC's (Louisiana Gen) commitment and SWEPCO's consent for Louisiana Gen to assume the rights, duties and obligations of Cajun Electric to purchase power from SWEPCO under an Electric System Interconnection Agreement dated January 1, 1988, as amended, between Cajun Electric and SWEPCO, and an As-Available Energy Transmission Service Letter Agreement dated May 31, 1989, as amended, between Cajun Electric and SWEPCO.

SWEPCO seeks an effective date for the Assignment and Consent Agreement coincident with the closing date of the Asset Purchase Agreement, which is expected to occur by late March 2000.

Accordingly, to the extent necessary, SWEPCO requests waiver of the Commission's notice requirements. SWEPCO also requests expedited consideration of the filing, including a shortened notice and comment period.

A copy of the filing was served on each of Ralph R. Mabey as Chapter 11 Trustee for Cajun Electric, Louisiana Gen and the Louisiana Public Service Commission.

Comment date: March 21, 2000, in accordance with Standard Paragraph E at the end of this notice.

28. New England Power Company

[Docket No. ER00-1733-000]

Take notice that on February 29, 2000, New England Power Company (NEP), tendered for filing an Agreement for Preliminary Engineering and Design Support Services with AES Londonderry, L.L.C.

NEP requests an effective date of March 1, 2000, for the agreement.

Comment date: March 21, 2000, in accordance with Standard Paragraph E at the end of this notice.

29. New England Power Pool Participants Committee

[Docket No. ER00-1734-000]

Take notice that on February 29, 2000, the New England Power Pool (NEPOOL) Participants Committee filed for acceptance a signature page to the New England Power Pool Agreement dated September 1, 1971, as amended, signed by NYSEG Solutions, Inc. (NYSEG). The NEPOOL Agreement has been designated NEPOOL FPC No. 2.

The Participants Committee states that the Commission's acceptance of NYSEG's signature page would permit NEPOOL to expand its membership to include NYSEG. The Participants Committee further states that the filed signature page does not change the NEPOOL Agreement in any manner, other than to make NYSEG a member in NEPOOL. The Participants Committee requests an effective date of May 1, 2000, for commencement of participation in NEPOOL by NYSEG.

Comment date: March 21, 2000, in accordance with Standard Paragraph E at the end of this notice.

30. New England Power Pool Participants Committee

[Docket No. ER00-1735-000]

Take notice that on February 29, 2000, the New England Power Pool (NEPOOL) Participants Committee tendered for filing for acceptance a signature page to the New England Power Pool Agreement dated September 1, 1971, as amended, signed by XENERGY Inc., (XENERGY). The NEPOOL Agreement has been designated NEPOOL FPC No. 2.

The Participants Committee states that the Commission's acceptance of XENERGY's signature page would permit NEPOOL to expand its membership to include XENERGY. The Participants Committee further states that the filed signature page does not change the NEPOOL Agreement in any manner, other than to make XENERGY a member in NEPOOL.

The Participants Committee requests an effective date of May 1, 2000, for commencement of participation in NEPOOL by XENERGY.

Comment date: March 21, 2000, in accordance with Standard Paragraph E at the end of this notice.

31. Soyland Power Cooperative, Inc.

[Docket No. ER00-1736-000]

Take notice that on February 29, 2000, Soyland Power Cooperative, Inc. (Soyland), tendered for filing with the Federal Energy Regulatory Commission (the Commission) proposed changes to its Rate Schedule A, designated as Supplement No. 2 to its Rate Schedules.

Soyland requests an effective date of February 1, 2000, for the proposed change to its Rate Schedule A. Accordingly, Soyland requests waiver of the Commission's regulations. Rate Schedule A is the formulary rate under which Soyland recovers the costs associated with its service to its Members pursuant to the Wholesale Power Contract that Soyland has with each Member.

Comment date: March 21, 2000, in accordance with Standard Paragraph E at the end of this notice.

32. Virginia Electric and Power Company

[Docket No. ER00-1737-000]

Take notice that on February 29, 2000, Virginia Electric and Power Company (Virginia Power), tendered for filing an Amended and Restated Market-Based Sale Tariff.

Virginia Power requests authorization to sell power at market-based rates at wholesale entities for resale outside the Company's service territory; and to both affiliated and non-affiliated energy service providers who are participating in Virginia's Retail Access Pilot Program. Virginia Power also purposes to correct two errors which it has identified in its currently filed tariff.

Copies of the filing were served upon the public utility's jurisdictional customers and Virginia State Corporation Commission.

Comment date: March 21, 2000, in accordance with Standard Paragraph E at the end of this notice.

33. Bangor Hydro-Electric Company

[Docket No. ER00-1738-000]

Take notice that on February 29, 2000, Bangor Hydro-Electric Company (Bangor Hydro), tendered pursuant to Section 205 of the Federal Power Act and Part 35 of the Commission's Regulations, revisions to its Open Access Transmission Tariff (OATT) to clarify its retail rate schedules.

Bangor Hydro proposes that the filing become effective March 1, 2000.

Comment date: March 21, 2000, in accordance with Standard Paragraph E at the end of this notice.

34. Phelps Dodge Energy Services, LLC

[Docket No. ER00-1739-000]

Take notice that on February 29, 2000, Phelps Dodge Energy Services, LLC (PDES), tendered for filing an “umbrella” Service Agreement between PDES and Tucson Electric Power Company (TEP) under which PDES will make short-term sales of capacity and energy to TEP, pursuant to PDES’ market-based rate tariff, which was approved by the Commission in Green Power Partners I, LLC, et al., 88 FERC ¶ 61,005 (1999).

Comment date: March 21, 2000, in accordance with Standard Paragraph E at the end of this notice.

35. Southwest Power Pool, Inc.

[Docket No. ER00-1740-000]

Take notice that on February 29, 2000, Southwest Power Pool, Inc. (SPP), tendered for filing an executed service agreement for firm point-to-point transmission service under the SPP Tariff with Southwestern Public Service Company (SPS).

SPP requests an effective date of January 1, 2002 for this agreement.

Copies of this filing were served upon SPS.

Comment date: March 21, 2000, in accordance with Standard Paragraph E at the end of this notice.

36. FirstEnergy Operating Companies and Duquesne Light Company

[Docket No. ER00-1741-000]

Take notice that on February 29, 2000, the FirstEnergy Operating Companies and Duquesne Light Company (collectively, Parties), tendered for filing under Section 205 of the Federal Power Act an Ancillary Services Service Agreement under which Duquesne Light Company may purchase certain ancillary services from the FirstEnergy Operating Companies.

The Parties request an effective date of May 1, 2000, for the agreement.

A copy of the filing was served upon the Pennsylvania Public Utility Commission and the Public Utilities Commission of Ohio.

Comment date: March 21, 2000, in accordance with Standard Paragraph E at the end of this notice.

37. Madison Windpower, LLC

[Docket No. ER00-1742-000]

Take notice that on February 29, 2000, Madison Windpower, LLC (Madison), tendered for filing, pursuant to Section 205 of the Federal Power Act, and Part 35 of the Commission's Regulations, a Petition for authorization to make sales of capacity, energy, and certain Ancillary Services at market-based rates and to reassign transmission capacity. Madison is constructing a nominally rated 11.55 MW wind-powered generating facility located in the Town of Madison in Madison County, New York.

Comment date: March 21, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-5855 Filed 3-9-00; 8:45 am]

BILLING CODE 6717-01-P